DEPARTMENT OF TRANSPORTATION

Federal Aviation Administration

14 CFR Part 39

[Docket No. FAA-2011-0533; Directorate Identifier 2011-NE-16-AD]

RIN 2120-AA64

Airworthiness Directives; Lycoming Engines (Type Certificate Previously Held by Textron Lycoming) Reciprocating Engines

AGENCY: Federal Aviation Administration (FAA), DOT.

ACTION: Notice of proposed rulemaking (NPRM).

SUMMARY: We propose to adopt a new airworthiness directive (AD) for the products listed above. This proposed AD would require removing certain “machined-from-billet” Volare LLC (formerly Precision Airmotive Corporation, formerly Facet Aerospace Products Company, formerly Marvel-Schebler (BorgWarner)) HA-6 carburetors, inspecting for a loose mixture control sleeve or for a sleeve that may become loose, repairing the carburetor, or replacing the carburetor with one eligible for installation. This proposed AD was prompted by a report of a “machined-from-billet” HA-6 carburetor having a loose mixture control sleeve that rotated in the carburetor body causing restriction of fuel and power loss. We are proposing this AD to prevent engine in-flight shutdown, power loss, and reduced control of the airplane.

DATES: We must receive comments on this proposed AD by October 17, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Marvel-Schebler Aircraft Carburetors LLC, 125 Piedmont Avenue, Gibsonville NC 27249; phone: 336-446-0002; fax: 336-446-0007; e-mail: customerservice@msacarbs.com; Web site: http://www.msacarbs.com. You may review copies of the referenced service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Neil Duggan, Aerospace Engineer, Propulsion, Atlanta Aircraft Certification Office, FAA, Small Airplane Directorate; 1701 Columbia Avenue, College Park, Georgia 30337; phone: 404-474-5576; fax: 404-474-5606; e-mail: neil.duggan@faa.gov.

SUPPLEMENTARY INFORMATION:

Comments Invited

We invite you to send any written relevant data, views, or arguments about this proposal. Send your comments to an address listed under the ADDRESSES section. Include “Docket No. FAA-2011-0533; Directorate Identifier 2011-NE-16-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

Volare Carburetors, LLC recently informed us of an airplane experiencing power loss. Volare reported that the airplane engine's carburetor, formerly known as a Precision Airmotive “machined-from-billet” HA-6 carburetor, had a loose mixture control sleeve that rotated in the carburetor body. That rotation restricted fuel flow and caused power loss. Volare also reported that the sleeve rotation was a manufacturing defect.

In 2008, a similar power loss event occurred. At that time, the manufacturer recovered five carburetors, which represented all known discrepant carburetors. With this recent failure, however, the population of five affected carburetors is too small, and must be expanded.

This condition, if not corrected, could result in in-flight shutdown or power loss, possibly resulting in reduced control of the airplane.

Relevant Service Information

We reviewed Marvel-Schebler Aircraft Carburetors LLC Emergency Service Bulletin (SB) No. SB-18, dated October 14, 2010. The SB identifies the affected population of HA-6 carburetors.

FAA's Determination

We are proposing this AD because we evaluated all the relevant information and determined the unsafe condition described previously is likely to exist or develop in other products of the same type design.

Proposed AD Requirements

This proposed AD would require accomplishing the actions specified in the service information described previously, except as discussed under “Differences Between the Proposed AD and the Service Information.”

Differences Between the Proposed AD and the Service Information

This proposed AD has a compliance time of within 50 flight hours after the effective date of the AD. The Marvel-Schebler Aircraft Carburetors LLC Emergency SB No. SB-18, dated October 14, 2010, has a compliance time of before further flight.

This proposed AD would not require returning the carburetor to the manufacturer. The SB does.

Costs of Compliance

We estimate that this proposed AD affects 10,700 engines installed on aircraft of U.S. registry. We also estimate that it would take about 0.5 work-hour per aircraft to perform the proposed inspection, and that about 409 carburetors would need repair. Approximately 2 work-hours per carburetor are required to repair the carburetor. The average labor rate is $85 per work-hour. Required parts would cost about $600 per carburetor. Based on these figures, we estimate the cost of the proposed AD on U.S. operators to be $769,680. Our cost estimate is exclusive of possible warranty coverage.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Lycoming Engines (Type Certificate previously held by Textron Lycoming) Reciprocating Engines: Docket No. FAA-2011-0533; Directorate Identifier 2011-NE-16-AD.

Comments Due Date

(a) We must receive comments by October 17, 2011.

Affected ADs

(b) None.

Applicability

(c) This AD applies to the Lycoming Engines reciprocating engines listed in Table 1 of this AD, with carburetor part numbers listed in Table 2 of this AD.

Table 1—Affected Lycoming Engine Models
O-320-D1D | O-360-A1G6D | O-360-A1H6
O-360-A2G | O-360-A4G | O-360-A4J
O-360-A4K | O-360-C4F | O-360-E1A6D
O-360-F1A6 | HO-360-C1A | LO-360-A1G6D
LO-360-A1H6 | LO-360-E1A6D | TO-360-C1A6D
O-540-J3C5D | O-540-L3C5D | N/A

Table 2—Part Numbers (Including All Dash Numbers) of Known Affected HA-6 Model Carburetors
10-5219-XX | 10-5224-XX | 10-5230-XX | 10-5235-XX | 10-5253-XX
10-5255-XX | 10-5283-XX | 10-6001-XX | 10-6019-XX | 10-6030-XX

Unsafe Condition

(d) This AD was prompted by a report of a “machined-from-billet” HA-6 carburetor having a loose mixture control sleeve that rotated in the carburetor body causing restriction of fuel and power loss. We are issuing this AD to prevent engine in-flight shutdown, power loss, and reduced control of the airplane.

Compliance

(e) Comply with this AD within 50 flight hours after the effective date of this AD, unless already done.

Inspection

(f) Inspect the carburetor to determine the type of body the carburetor has. Use Marvel-Schebler Emergency Service Bulletin (SB) No. SB-18, dated October 14, 2010, Figure (3) to determine which type of body is used.

(g) If the carburetor has a die-cast body, no further action is required.

(h) If the carburetor has an affected “machined-from-billet” body, remove the carburetor; and replace the carburetor with:

(i) An HA-6 carburetor not listed in Table 2 of this AD; or

(ii) An HA-6 carburetor that is listed in Table 2 but is exempted as described in paragraphs 1.A. and 1.B of Marvel-Schebler Emergency SB No. SB-18, dated October 14, 2010; or that has already been repaired using that Emergency SB.

Alternative Methods of Compliance (AMOCs)

(i) The Manager, Engine Certification Office, FAA, has the authority to approve AMOCs for this AD, if requested using the procedures found in 14 CFR 39.19.

Related Information

(j) For more information about this AD, contact Neil Duggan, Aerospace Engineer, Propulsion, Atlanta Aircraft Certification Office, FAA, Small Airplane Directorate; 1701 Columbia Avenue, College Park, Georgia 30337; phone: (404) 474-5576; fax: (404) 474-5606; e-mail: neil.duggan@faa.gov.

(k) For service information identified in this AD, contact Marvel-Schebler Aircraft Carburetors LLC, 125 Piedmont Avenue, Gibsonville, NC 27249; phone: 336-446-0002; fax: 336-446-0007; e-mail: customerservice@msacarbs.com; Web site: http://www.msacarbs.com. You may review copies of the referenced service information at the FAA, Engine & Propeller Directorate, 12 New England Executive Park, Burlington, MA. For information on the availability of this material at the FAA, call 781-238-7125.

Issued in Burlington, Massachusetts, on August 24, 2011.
Thomas A. Boudreau,
Acting Manager, Engine & Propeller Directorate, Aircraft Certification Service.

[FR Doc. 2011-22351 Filed 8-31-11; 8:45 am]

BILLING CODE 4910-13-P